FARM CREDIT ADMINISTRATION

Proposed Related Services; Farm Management and Agricultural Trust

AGENCY: Farm Credit Administration.

ACTION: Notice; reopening of comment period.

SUMMARY: The Farm Credit Administration (FCA or we) is reopening the comment period on our request for public comment on an inquiry by a Farm Credit System (System or FCS) institution for approval to offer farm management and agricultural trust services as authorized “Related Services.” We are reopening the comment period so all interested parties have more time to respond to our questions.

DATES: Please send your comments to the FCA by December 22, 2003.

ADDRESSES: You may send comments by electronic mail to “reg-comm@fca.gov,” through the Pending Regulations section of the FCA's interactive Web site at “http://www.fca.gov,” or through the government-wide “http://www.regulations.gov” portal. You may also send written comments to S. Robert Coleman, Director, Regulation and Policy Division, Office of Policy and Analysis, Farm Credit Administration, 1501 Farm Credit Drive, McLean, Virginia 22102-5090 or by facsimile to (703) 734-5784. Copies of all comments we receive can be reviewed at FCA's office in McLean, Virginia.

FOR FURTHER INFORMATION CONTACT: Lori Markowitz, Policy Analyst, Office of Policy and Analysis, Farm Credit Administration, McLean, VA 22102-5090, (703) 883-4498, TTY (703) 883-4434; or Joy Strickland, Senior Counsel, Regulatory Enforcement Division, Office of General Counsel, Farm Credit Administration, McLean, VA 22102-5090, (703) 883-4020, TTY (703) 883-4020.

SUPPLEMENTARY INFORMATION: On August 19, 2003, FCA published a notice in the Federal Register seeking public comment on a request from a FCS institution to offer farm management and agricultural trust services as authorized “Related Services.” See 68 FR 49773, August 19, 2003. One member of the public requested that we reopen the comment period for an additional 60 days in consideration of the complex elements of the request. In response to this request, we are reopening the comment period until December 22, 2003 so all interested parties have more time to respond to our questions. The FCA supports public involvement and participation in its regulatory and policy process and invites all interested parties to review and provide comments on our notice.

Dated: October 17, 2003.
Jeanette C. Brinkley,
Secretary, Farm Credit Administration Board.

[FR Doc. 03-26728 Filed 10-22-03; 8:45 am]

BILLING CODE 6705-01-P